FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10036 | Firstbank Financial Services | Mcdonough | GA | 07/01/2023
10234 | The Bank of Bonifay | Bonifay | FL | 07/01/2023
10251 | First National Bank | Savannah | GA | 07/01/2023
10257 | Ideal Federal Savings Bank | Baltimore | MD | 07/01/2023
10296 | Wakulla Bank | Crawfordville | FL | 07/01/2023
10306 | First Arizona Savings, Fsb | Scottsdale | AZ | 07/01/2023
10425 | SCB Bank | Shelbyville | IN | 07/01/2023
10433 | Fort Lee Federal Savings Bank | Fort Lee | NJ | 07/01/2023

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819)

Federal Deposit Insurance Corporation.
Dated at Washington, DC, on July 3, 2023.
James P. Sheesley,
Assistant Executive Secretary.

[FR Doc. 2023-14417 Filed 7-6-23; 8:45 am]

BILLING CODE 6714-01-P